DEPARTMENT OF ENERGY

Federal Energy Regulatory Commission

Combined Notice of Filings #1

Take notice that the Commission received the following electric corporate filings:

Docket Numbers: EC16-172-000.

Applicants: ITC Midwest LLC.

Description: Application under Section 203 for Acquisition of Assets of ITC Midwest LLC.

Filed Date: 8/24/16.

Accession Number: 20160824-5134.

Comments Due: 5 p.m. ET 9/14/16.

Take notice that the Commission received the following electric rate filings:

Docket Numbers: ER12-678-008.

Applicants: Midcontinent Independent System Operator, Inc.

Description: Compliance filing: 2016-08-22_VLR Settlement Compliance Filing to be effective 9/1/2012.

Filed Date: 8/22/16.

Accession Number: 20160822-5241.

Comments Due: 5 p.m. ET 9/12/16.

Docket Numbers: ER16-2445-000.

Applicants: California Independent System Operator Corporation.

Description: Report Filing: 2016-08-23 Errata to Bidding Rules Commitment Costs Attach A and B to be effective N/A.

Filed Date: 8/23/16.

Accession Number: 20160823-5167.

Comments Due: 5 p.m. ET 9/13/16.

Docket Numbers: ER16-2467-000.

Applicants: NSTAR Electric Company.

Description: Tariff Cancellation: Notice of Cancellation of Exelon West Medway Design and Engineering Agreement to be effective 5/31/2016.

Filed Date: 8/24/16.

Accession Number: 20160824-5001.

Comments Due: 5 p.m. ET 9/14/16.

Docket Numbers: ER16-2468-000.

Applicants: Southwest Power Pool, Inc.

Description: Section 205(d) Rate Filing: 3239 WAPA-UGP and Montana-Dakota Utilities Co. Attachment AO to be effective 8/1/2016.

Filed Date: 8/24/16.

Accession Number: 20160824-5081.

Comments Due: 5 p.m. ET 9/14/16.

Docket Numbers: ER16-2469-000.

Applicants: Southwest Power Pool, Inc.

Description: Section 205(d) Rate Filing: 607R28 Westar Energy, Inc. NITSA NOA to be effective 8/1/2016.

Filed Date: 8/24/16.

Accession Number: 20160824-5083.

Comments Due: 5 p.m. ET 9/14/16.

Docket Numbers: ER16-2470-000.

Applicants: PJM Interconnection, L.L.C.

Description: Section 205(d) Rate Filing: First Revised Service Agreement No. 1141, Queue Position AA2-131 to be effective 7/27/2016.

Filed Date: 8/24/16.

Accession Number: 20160824-5104.

Comments Due: 5 p.m. ET 9/14/16.

Docket Numbers: ER16-2471-000.

Applicants: Ontario Power Generation Energy Trading.

Description: Section 205(d) Rate Filing: OPGET MBR Tariff Filing to be effective 8/25/2016.

Filed Date: 8/24/16.

Accession Number: 20160824-5133.

Comments Due: 5 p.m. ET 9/14/16.

Docket Numbers: ER16-2472-000.

Applicants: PacifiCorp.

Description: Section 205(d) Rate Filing: UAMPS Construction Agmt—Lehi Temp Tap to be effective 10/24/2016.

Filed Date: 8/24/16.

Accession Number: 20160824-5143.

Comments Due: 5 p.m. ET 9/14/16.

Docket Numbers: ER16-2473-000.

Applicants: Alabama Power Company.

Description: Tariff Cancellation: Termination of UPS Agreements to be effective 12/31/2011.

Filed Date: 8/24/16.

Accession Number: 20160824-5164.

Comments Due: 5 p.m. ET 9/14/16.

Docket Numbers: ER16-2474-000.

Applicants: Georgia Power Company.

Description: Tariff Cancellation: Termination of UPS Agreements to be effective 12/31/2011.

Filed Date: 8/24/16.

Accession Number: 20160824-5166.

Comments Due: 5 p.m. ET 9/14/16.

Docket Numbers: ER16-2475-000.

Applicants: Gulf Power Company.

Description: Tariff Cancellation: Termination of UPS Agreements to be effective 12/31/2011.

Filed Date: 8/24/16.

Accession Number: 20160824-5170.

Comments Due: 5 p.m. ET 9/14/16.

Docket Numbers: ER16-2476-000.

Applicants: Mississippi Power Company.

Description: Tariff Cancellation: Termination of UPS Agreements to be effective 12/31/2011.

Filed Date: 8/24/16.

Accession Number: 20160824-5173.

Comments Due: 5 p.m. ET 9/14/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 24, 2016.
Kimberly D. Bose,
Secretary.

[FR Doc. 2016-20756 Filed 8-29-16; 8:45 am]

BILLING CODE 6717-01-P